FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

ACE International, Inc. (NVO & OFF), 144 Riverview Park Road, Jackson, GA 30233, Officers: Norma K. Williams, Secretary (QI), David Higgs, President, Application Type: Removal of Trade Name Ocean Cargo Express and QI Change.

AFCO Shipping Line, LLC (NVO & OFF), 1501 NW 12th Avenue, Pompano Beach, FL 33069, Officer: Avi Nir, General Manager (QI), Application Type: New NVO & OFF License.

AIT Ocean Systems Inc. (NVO), 701 W. Rohlwing Road, Itasca, IL 60143, Officers: Gregory W. Weigel, Vice President (QI), Vaughn Moore, President, Application Type: Transfer to AIT Worldwide Logistics, Inc.

Global Port Ship Lines, Inc. (NVO & OFF), 103 East 3rd Street, Bevington, IA 50033, Officer: Timothy Pontier, President (QI), Application Type: Add NVO Service.

Grandbelle International, Inc. (NVO), 145 Hook Creek Boulevard, Suite B6A, Valley Stream, NY 11581, Officer: Francisca Enyaosa, CEO (QI), Application Type: New NVO License.

GreenShields Cowie (U.S.A.) Inc. (OFF), 1635 East Highway 50, Suite 200, Clermont, FL 34711, Officers: Sary S. Chun, Secretary (QI), Lee Chacksfield, President, Application Type: QI Change.

Interlog USA, Inc. (NVO), 9380 Central Avenue NE, Suite 350, Blaine, MN 55434, Officers: David Canfield, President (QI), Justin Engelmeier, Secretary, Application Type: QI Change.

International Cargotrans Inc. (NVO & OFF), 9245 Laguna Springs Drive, Suite 200, Elk Grove, CA 95758, Officers: Karl W. Tede, Director (QI), Linda S. Cardenas, Director, Application Type: New NVO & OFF License.

Latam Cargo USA LLC (NVO & OFF), 4624 NW 74th Avenue, Miami, FL 33166, Officer: Jose G. Suarez, Managing Member (QI), Application Type: New NVO & OFF License.

Sam Taghavi dba US General Shipping (NVO & OFF), 24328 S. Vermont Avenue, Suite 222, Harbor City, CA 90710, Officers: Sam Taghavi, Sole Proprietor (QI), Application Type: New NVO & OFF License.

Versailles Shipping, LLC (NVO & OFF), 1759 N. Florida Mango Rd, Suite 8, West Palm Beach, FL 33409, Officers: Sheldon Serrao, Manager (QI), Ricardo Charles, Member, Application Type: New NVO & OFF License.

Pursuant To The Commission's Direct Final Rule (79 FR 56522), Beginning October 20, 2014, These Notices Will No Longer Be Posted In The Federal Register. After October 20, 2014, This Information Will Be Available On The Commission's Web site at http://www.Fmc.Gov. See OTI Licensing Updates.

By the Commission.
Dated: September 30, 2014.
Karen V. Gregory,
Secretary.

[FR Doc. 2014-23649 Filed 10-3-14; 8:45 am]

BILLING CODE 6730-01-P